DEPARTMENT OF HEALTH AND HUMAN SERVICES

Centers for Disease Control and Prevention

Disease, Disability, and Injury Prevention and Control Special Emphasis Panel: Agricultural Center Review, Program Announcement (PAR) 06-057

In accordance with section 10(a)(2) of the Federal Advisory Committee Act (Pub. L. 92-463), the Centers for Disease Control and Prevention (CDC) announces a meeting of the aforementioned Special Emphasis Panel.

Times and Dates: 8 a.m.-5 p.m., April 10, 2007 (Closed). 8 a.m.-12 p.m., April 11, 2007 (Closed).

Place: Renaissance Hotel, 107 6th Street, Pittsburgh, PA 15222, telephone (412) 562-1200.

Status: The meeting will be closed to the public in accordance with provisions set forth in section 552b(c)(4) and (6), Title 5 U.S.C., and the Determination of the Director, Management Analysis and Services Office, CDC, pursuant to Public Law 92-463.

Matters to be Discussed: The meeting will include the review, discussion, and evaluation of research grant applications in response to PAR 06-057, “Agricultural Center Review.”

For Further Information Contact: Stephen Olenchock, Scientific Review Administrator, 1095 Willowdale Road, Morgantown, WV 26506, telephone (304) 285-6271.

The Director, Management Analysis and Services Office, has been delegated the authority to sign Federal Register notices pertaining to announcements of meetings and other committee management activities, for both CDC and the Agency for Toxic Substances and Disease Registry.

Elaine L. Baker,
Acting Director, Management Analysis and Services Office, Centers for Disease Control and Prevention.

[FR Doc. E7-3852 Filed 3-5-07; 8:45 am]

BILLING CODE 4163-18-P